DEPARTMENT OF HOMELAND SECURITY

Federal Emergency Management Agency

[Docket ID: FEMA-2021-0027; OMB No. 1660-NW141]

Agency Information Collection Activities: Proposed Collection; Comment Request; National Business Emergency Operation Center (NBEOC) Membership Agreement Form

AGENCY: Federal Emergency Management Agency, Department of Homeland Security.

ACTION: 30-Day notice and request for comments.

SUMMARY: The Federal Emergency Management Agency (FEMA) will submit the information collection abstracted below to the Office of Management and Budget for review and clearance in accordance with the requirements of the Paperwork Reduction Act of 1995 (PRA). In accordance with the PRA, this notice seeks comments concerning FEMA's compilation and information sharing leveraging the National Business Emergency Operation Center (NBEOC) stakeholder listing. FEMA seeks to voluntarily continue the standing practice of collecting entity specific information for dissemination during an event to assist in response/recovery operations.

DATES: Comments must be submitted on or before May 13, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C Street SW, Washington, DC 20472, email address FEMA-Information-Collections-Management@fema.dhs.gov or Mr. Donald J. Odell, Operations and Insight Management Branch Chief, Office of Business Industry, and Infrastructure Integration (OB3I), (202) 258-2076 or Donald.Odell@fema.dhs.gov.

SUPPLEMENTARY INFORMATION: The Federal Emergency Management Agency (FEMA) is requesting the information written on this form to establish your identity and your consent to disclose the information provided on the National Business Emergency Operations Center Membership Agreement form under the form's “NBEOC contact information” section, to all NBEOC members and participants of NBEOC meetings or events. Written consent is requested pursuant to the Privacy Act of 1974, 5 U.S.C. 552a(b). The program for which this form may be used is authorized by the Robert T. Stafford Disaster Relief and Emergency Assistance Act as amended, 42 U.S.C. 5121-5207; The Homeland Security Act of 2002, 6 U.S.C. 311-321j; 44 CFR 206.2(a)(27); the Personal Responsibility and Work Opportunity Reconciliation Act of 1996 (Pub. L. 104-193); and Exec. Order No. 13411, Improving Assistance for Disaster Victims.

Information collected is as follows: Entity Name, Entity Representative, Duty Title, Work Phone, Work email, Your full name, Current Address, Place of Birth, Date of Birth, and Signature.

FEMA may externally share the information you provide as generally permitted under 5 U.S.C. 552a(b) of the Privacy Act of 1974, the “routine uses” published in DHS/ALL-002 Department of Homeland Security Mailing and Other Lists System 73 FR 71659 (November 25, 2008), and as authorized by your written consent. The information provided to FEMA regarding you and your entity may be subject to release under the Freedom of Information Act (5 U.S.C. 552). A complete list of the routine uses can be found in the system of records notice DHS/ALL-002 Department of Homeland Security Mailing and Other Lists System 73 FR 71659 (November 25, 2008). The Department's full list of systems of record notices can be found on the Department's website at http://www.dhs.gov/system-records-notices-sorns.

This proposed information collection previously published in the Federal Register on November 10, 2021, at 86 FR 62558 with a 60-day public comment period. One comment was received and it was concluded that it was not germane to the collection. The purpose of this notice is to notify the public that FEMA will submit the information collection abstracted below to the Office of Management and Budget for review and clearance.

Collection of Information

Title: National Business Emergency Operation Center (NBEOC) Membership Agreement Form.

Type of Information Collection: Existing collection in use without an OMB control number.

OMB Number: 1660-NW141.

FEMA Forms: FEMA Form FF-145-FY-21-101, National Business Emergency Operation Center (NBEOC) Membership Agreement Form.

Abstract: FEMA's NBEOC collects this data for the primary purpose of maintaining a private sector stakeholder roster and mailing list for information dissemination, outreach, and coordination. FEMA leverages this information to engage stakeholders to coordinate disaster response operations, garner donations, and gain situational awareness around private sector actions that will help inform FEMA Leadership and assist evidence-based decision making.

Affected Public: Business or other for-profit, Not-for-profit institutions, Federal Government, and State, Local or Tribal Government.

Estimated Number of Respondents: 232.

Estimated Number of Responses: 232.

Estimated Total Annual Burden Hours: 116.

Estimated Total Annual Respondent Cost: $6,817.

Estimated Respondents' Operation and Maintenance Costs: $0.

Estimated Respondents' Capital and Start-Up Costs: $0.

Estimated Total Annual Cost to the Federal Government: $7,165.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2022-07888 Filed 4-12-22; 8:45 am]

BILLING CODE 9111-24-P